DEPARTMENT OF JUSTICE

Antitrust Division

Notice Pursuant to the National Cooperative Research and Production Act of 1993—Rust Foundation

Notice is hereby given that, on May 27, 2025, pursuant to section 6(a) of the National Cooperative Research and Production Act of 1993, 15 U.S.C. 4301 et seq. (“the Act”), Rust Foundation has filed written notifications simultaneously with the Attorney General and the Federal Trade Commission disclosing changes in its membership. The notifications were filed for the purpose of extending the Act's provisions limiting the recovery of antitrust plaintiffs to actual damages under specified circumstances. Specifically, Fledgio Limited, London, UNITED KINGDOM; OpenAtom Foundation, Beijing, PEOPLE'S REPUBLIC OF CHINA; School of Computer Science at University of Bristol, Bristol, UNITED KINGDOM; Stichting Trifecta Tech Foundation, Nijmegen, KINGDOM OF THE NETHERLANDS; and Tock Foundation, Seattle, WA, have been added as parties to this venture.

Also, Dropbox Inc., San Francisco, CA; Embecosm, Southampton, UNITED KINGDOM; and Knoldus Inc., Missisauga, CANADA, have withdrawn as parties to this venture.

No other changes have been made in either the membership or planned activity of the group research project. Membership in this group research project remains open, and Rust Foundation intends to file additional written notifications disclosing all changes in membership.

On April 14, 2022, Rust Foundation filed its original notification pursuant to section 6(a) of the Act. The Department of Justice published a notice in the Federal Register pursuant to section 6(b) of the Act on May 13, 2022 (87 FR 29384).

The last notification was filed with the Department on March 19, 2025. A notice was published in the Federal Register pursuant to section 6(b) of the Act on April 21, 2025 (90 FR 16702).

Suzanne Morris,
Deputy Director Civil Enforcement Operations, Antitrust Division.

[FR Doc. 2025-11310 Filed 6-18-25; 8:45 am]

BILLING CODE 4410-11-P